DEPARTMENT OF ENERGY

Federal Energy Regulatory Commission

[Docket No. EL01-17-000]

New York Independent System Operator, Inc., Complainant v. New York State Electric & Gas Corporation, Respondent; Notice of Complaint

November 28, 2000.

Take notice that on November 24, 2000, the New York Independent System Operator, Inc. (NYISO) filed a Complaint pursuant to Section 206 of the Federal Power Act, and Rule 206 of the Commission's Rules of Practice and Procedure, against the New York State Electric and Gas Corporation (NYSEG) alleging that NYSEG has violated its obligations as a customer under the NYISO's Open Access Transmission Tariff (OATT) by unlawfully withholding $6.635 million that it owes the NYISO. By withholding this payment, NYSEG directly threatens the NYISO, and indirectly threatens other market participants, with serious financial harm. Accordingly, the NYISO has requested that the Commission: (i) consider the Complaint pursuant to its Fast-Track Processing procedures; (ii) declare that NYSEG is in violation of its obligations as a customer under the NYISO OATT and must immediately pay the full amount that it owes to the NYISO; and (iii) order NYSEG to make the payment immediately.

The NYISO has served this filing on NYSEG. The Complaint will be posted on the NYISO's web-site at http://www.nyiso.com/topics/whats_new/whatsnew.html.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before December 6, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before December 6, 2000. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-30772 Filed 12-1-00; 8:45 am]

BILLING CODE 6717-01-M